Title 3—

The President

Proclamation 7309 of May 18, 2000

National Safe Boating Week, 2000

By the President of the United States of America

A Proclamation

Living in a country bordered by oceans and blessed with abundant lakes and rivers, Americans have made recreational boating one of our Nation's most popular pastimes. Each year, more than 74 million Americans take to the water with family and friends to relax and enjoy the beauty of the natural world.

But each year, for too many Americans, boating ends in tragedy. Most boating-related injuries and deaths are the result of human error and poor judgment, caused, for example, by excessive speed, failure to follow safe navigation rules, and drinking or taking drugs while operating watercraft. These injuries could easily be prevented by using common sense and making safety the first priority.

Boating accidents can occur at any time—whether the water is smooth or turbulent and whether the boater is experienced or a novice. One of the best ways to make a recreational boating experience safe and enjoyable is to ensure that everyone on board always wears a life jacket. To reinforce this lifesaving message, the National Safe Boating Campaign has once again selected the theme “Boat Smart from the Start! Wear Your Life Jacket!” for this year's observance. Recreational boating organizations, including the National Safe Boating Council and the National Association of State Boating Law Administrators, as well as the U.S. Coast Guard, other Federal agencies, and State and local governments, are continuing to promote safety through education by emphasizing the importance of wearing life jackets and practicing boating and water safety.

In recognition of the importance of safe boating practices, the Congress, by joint resolution approved June 4, 1958 (36 U.S.C. 131), as amended, has authorized and requested the President to proclaim annually the 7-day period ending on the last Friday before Memorial Day as “National Safe Boating Week.”

NOW, THEREFORE, I, WILLIAM J. CLINTON, President of the United States of America, do hereby proclaim May 20 through May 26, 2000, as National Safe Boating Week. I encourage the governors of the 50 States and the Commonwealth of Puerto Rico, and officials of other areas subject to the jurisdiction of the United States, to join in observing this occasion and to urge all Americans to use safe boating practices throughout the year.

IN WITNESS WHEREOF, I have hereunto set my hand this eighteenth day of May, in the year of our Lord two thousand, and of the Independence of the United States of America the two hundred and twenty-fourth.

wj

[FR Doc. 00-13063

Filed 5-22-00; 8:45 am]

Billing code 3195-01-P